DEPARTMENT OF HEALTH AND HUMAN SERVICES

National Institutes of Health

Center for Scientific Review; Amended Notice of Meeting

Notice is hereby given of a change in the meeting of the Center for Scientific Review Special Emphasis Panel, August 04, 2017, 11:00 a.m. to August 04, 2017, 02:00 p.m., National Institutes of Health, 6701 Rockledge Drive, Bethesda, MD, 20892 which was published in the Federal Register on July 14, 2017, 82 FR 32557.

The meeting will be held on August 03, 2017 at 10:00 a.m. The meeting location remains the same. The meeting is closed to the public.

Dated: July 25, 2017.
Sylvia L. Neal,
Program Analyst, Office of Federal Advisory Committee Policy.

[FR Doc. 2017-15953 Filed 7-27-17; 8:45 am]

BILLING CODE 4140-01-P